DEPARTMENT OF ENERGY

Federal Energy Regulatory Commission

[Docket No. ER00-2159-000, et al.]

Avista Corporation, et al. Electric Rate and Corporate Regulation Filings

April 14, 2000.

Take notice that the following filings have been made with the Commission:

1. Avista Corporation

[Docket No. ER00-2159-000]

Take notice that on April 11, 2000, Avista Corporation, tendered for filing with the Federal Energy Regulatory Commission pursuant to Section 35.12 of the Commissions, 18 CFR part 35.12, an executed Amendment to a Mutual Netting Agreement with PacifiCorp Power Marketing, Inc., previously filed with the FERC under Docket No. ER99-1763-000, Service Agreement No. 268, effective 2/1/99 changing billing and payment terms.

AVA requests waiver of the prior notice requirements and requests an effective date of April 1, 2000 for the amended terms for net billing of transactions.

Notice of the filing has been served upon PacifiCorp Power Marketing, Inc.

Comment date: May 2, 2000, in accordance with Standard Paragraph E at the end of this notice.

2. Arizona Public Service Company

[Docket No. ER00-2160-000]

Take notice that on April 11, 2000, Arizona Public Service Company, tendered for filing notice that effective December 31, 1996, APS FERC Rate Schedule No. 104, effective date January 1, 1984 and filed with the Federal Energy Regulatory Commission by Public Service Company of Colorado is to be canceled.

Notice of the proposed cancellation has been served upon Public Service of New Mexico, Public Service Company of Colorado, Tucson Electric Power Company, El Paso Electric Company, Arizona Electric Power Cooperative, Basin Electric Power Cooperative, City of Colorado Springs, City of Farmington, Colorado-Ute Electric Association, Deseret Generation & Transmission Cooperative, Western Area Power Administration, Wyoming Municipal Power Agency, Plains Electric Generation & Transmission, Platte River Power Authority, Salt River Project, Tri-State Generation & Transmission, The Arizona Corporation Commission and The New Mexico Public Service Commission.

Comment date: May 2, 2000, in accordance with Standard Paragraph E at the end of this notice.

3. Arizona Public Service Company

[Docket No. ER00-2161-000]

Take notice that on April 11, 2000, Arizona Public Service Company (APS), tendered for filing Service Agreements to provide Long-Term Firm Point-to-Point Transmission Service to Pinnacle West Energy under APS’ Open Access Transmission Tariff.

A copy of this filing has been served Pinnacle West Energy, and the Arizona Corporation Commission.

Comment date: May 2, 2000, in accordance with Standard Paragraph E at the end of this notice.

4. Northern Indiana Public Service Company

[Docket No. ER00-2173-000]

Take notice that on April 11, 2000, Northern Indiana Public Service Company (NIPSCO), tendered for filing a Wholesale Market Based Rate Tariff, a pro forma Service Agreement, and a revised Code of Conduct. In addition, NIPSCO tendered for filing certain modifications to its currently-effective Power Sales Tariff.

NIPSCO seeks an effective date of June 15, 2000 for all of the tariff sheets submitted with this filing.

NIPSCO states that its Wholesale Market Based Rate Tariff, pro forma Service Agreement, and Code of Conduct are being filed in order to conform to a pro forma tariff and code of conduct prepared by a group of representatives from various segments of the electric industry. NIPSCO states that it does not propose to eliminate its currently-effective Power Sales Tariff which permits sales of power at market based rates. However, NIPSCO proposes to revise the Power Sales Tariff to provide that NIPSCO will offer service under that tariff only to customers that (1) have an existing service agreement under the Power Sales Tariff (until the agreement expires) or (2) wish to purchase power from NIPSCO, but do not wish to sell power to NIPSCO. NIPSCO states further that it plans to replace its currently-effective Standards of Conduct with the Code of Conduct filed in this proceeding. NIPSCO states that its proposed Code of Conduct comports with recent Commission decisions regarding standards of conduct and affiliate transactions.

Copies of this filing have been sent to the Indiana Utility Regulatory Commission and the Indiana Office of Consumer Counselor.

Comment date: May 2, 2000, in accordance with Standard Paragraph E at the end of this notice.

5. Alliant Energy Corporate Services, Inc.

[Docket No. ER00-2175-000]

Take notice that on April 11, 2000, Alliant Energy Corporate Services, Inc., tendered for filing executed Service Agreements for short-term firm point-to-point transmission service and non-firm point-to-point transmission service, establishing Otter Tail Power Wholesale Marketing as a point-to-point Transmission Customer under the terms of the Alliant Energy Corporate Services, Inc., transmission tariff.

Alliant Energy Corporate Services, Inc. requests an effective date of April 3, 2000, and accordingly, seeks waiver of the Commission's notice requirements. A copy of this filing has been served upon the Illinois Commerce Commission, the Minnesota Public Utilities Commission, the Iowa Department of Commerce, and the Public Service Commission of Wisconsin.

Comment date: May 2, 2000, in accordance with Standard Paragraph E at the end of this notice.

6. Jersey Central Power & Light Company

[Docket No. ER00-2174-000]

Take notice that on April 11, 2000, Jersey Central Power & Light Company (doing business as GPU Energy), tendered for filing a letter amendment to the Generation Facility Transmission Interconnection Agreement between GPU Energy and AES Red Oak, L.L.C.

Comment date: May 2, 2000, in accordance with Standard Paragraph E at the end of this notice.

7. New Hampshire Electric Cooperative, Inc.

[Docket No. ER00-2176-000]

Take notice that on April 11, 2000, New Hampshire Electric Cooperative, Inc. (NHEC), petitioned the Commission for acceptance of changes to NHEC Rate Schedule FERC No. 2, pursuant to which NHEC sells its capacity entitlement in the Seabrook Nuclear Generating Station.

NHEC is a consumer-owned electric generation and distribution cooperative that provides electric service to 65,000 customers in New Hampshire.

Comment date: May 2, 2000, in accordance with Standard Paragraph E at the end of this notice.

8. Rainy River Energy Corporation

[Docket No. ER00-2177-000]

Take notice that on April 10, 2000, Rainy River Energy Corporation (RREC), tendered for filing an application for an order authorizing RREC to make wholesale sales of electric power at market-based rates.

Comment date: May 1, 2000, in accordance with Standard Paragraph E at the end of this notice.

9. Statoil Energy Services, Inc.

[Docket No. ER00-2181-000]

Take notice that on April 10, 2000, Statoil Energy Services, Inc., tendered for filing notice of name change from Statoil Energy Services, Inc., to Hess Energy Inc.

The name change is effective April 1, 2000.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-10056 Filed 4-21-00; 8:45 am]

BILLING CODE 6717-01-P